GENERAL SERVICES ADMINISTRATION

[2003-N01]

Notice of Intent To Prepare an Environmental Impact Statement for the Andrade Port of Entry Expansion/Renovation

AGENCY: General Services Administration (GSA).

ACTION: Notice of intent to prepare an Environmental Impact Statement (EIS) for the expansion/renovation of the Andrade Port of Entry (POE).

SUMMARY: The action to be evaluated by this EIS is the expansion/renovation of the existing Andrade POE, located in Andrade, California, to improve the safety, security, and operations of the POE, and to maintain control over ever-present illegal activities at the border. The facility serves vehicular and pedestrian traffic into and out of the Mexican town of Algodones. Expansion/renovation of this facility is proposed to respond to the substantial increase in the flow of both vehicles and pedestrians. The existing POE facility is not equipped to process the number of vehicles and pedestrians anticipated at a level of service consistent with the Federal Inspection Service minimum standards for processing time and overall operational efficiency. The current facility layout requires northbound pedestrians to cross both lanes of SR-186 upon exiting the pedestrian inspection facility, which impedes vehicle circulation, hinders vehicle inspection efficiency, and presents a hazard to those pedestrians.

Alternatives: Four build alternatives for the proposed project are currently under consideration and will be analyzed in the EIS for potential environmental impacts. In addition, the “no build” alternative will be analyzed. Alternatives 1 and 2, located on Fort Yuma (Quechan) Indian Reservation land, would expand the existing facility on additional property immediately north and west of the existing site. These two alternatives differ in how traffic would flow through the facility. Alternative 3, also located on Fort Yuma (Quechan) Indian Reservation land, would construct a new facility immediately across the Alamo Canal, east of the existing facility. A bridge over the canal would connect the new facility to the existing roadway. Alternative 4 would leave the existing facility in place, and construct a new facility east of Algodones on the Arizona side of the Colorado River, connecting with Algodones via a bridge. Land in this area is privately owned. Under Alternative 4, both POE's would remain open, but the majority of vehicular traffic would be expected to pass through the new facility.

The EIS will address the potential environmental impacts of the alternatives for the proposed project, including: land use, visual and aesthetic resources, cultural and historic resources, traffic and public safety, air quality during construction and operation, noise, biological resources, geology and soils, water resources, and infrastructure and utilities. The EIS will also address the socioeconomic and environmental justice effects of the potential expansion/renovation of the Andrade POE.

Public Involvement: The views and comments of the public are necessary in determining the scope and content of the environmental analysis in connection with the proposed project. A public scoping meeting for the proposed project will be held on January 7, 2004, from 3 p.m. to 6 p.m. at the Shilo Inn, Yuma Room, 1550 South Castle Dome Road, Yuma, AZ, 85365 (near 16th Street exit from Interstate 8). Interested parties may attend to present questions and concerns that they believe should be addressed in the EIS. Comments and questions can also be submitted to the Point of Contact listed below. Due to time limits mandated by federal law, responses to scoping are requested no later than 30 days after publication of this notice. It is anticipated that the Draft EIS will be available for public review and comment in September 2004.

If you require additional information regarding the public scoping meeting or proposed project, or require special assistance to attend the meeting, please contact the GSA or visit our Web site: http://hydra.gsa.gov/regions/r9/Andrade.

Point of Contact: Ramon D. Riesgo, Border Station Program, GSA, Desert Service Center, 401 West “A” Street, Suite 2075, San Diego, CA 92101-8843, (619) 557-5092 voice, (619) 557-2928 facsimile.

Peter G. Stamison,
Regional Administrator, Pacific Rim Region, General Services Administration.

[FR Doc. 04-377 Filed 1-7-04; 8:45 am]

BILLING CODE 6820-XX-M